DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing:

U.S. Patent No. 6,665,582: STANDARDIZED CONTAINER PAYLOAD DELIVERY AND CONTROL SYSTEM.//U.S. Patent No. 6,669,408: SELF-ORIENTING PILING, FLUID-FLOW REDUCTION DEVICE.//U.S. Patent No. 6,697,715: INSTINCTIVE STEERING SYSTEM AND METHOD FOR REDUCING OPERATOR ERROR IN CONTROLLING A VEHICLE REMOTELY.//U.S. Patent No. 6,694,911 B1: ENHANCED DISPLAY UNDERWATER COMBAT SWIM BOARD.//U.S. Patent No. 6,695,068: TEXTILE AND CORDAGE NET FIRE EXTINGUISHER SYSTEM.//U.S. Patent No. 6,704,618: CONTAINER BASED SYSTEM FOR GENERATION AND DISPERSAL OF PRINTED MATERIALS.//U.S. Patent No. 6,711,095: EXPENDABLE/RECOVERABLE VOICE AND DATA COMMUNICATIONS SYSTEM BUOY.//6,712,312: RECONNAISSANCE USING UNMANNED SURFACE VEHICLES AND UNMANNED MICRO-AERIAL VEHICLES.//U.S. Patent No. 6,730,917 B2: MINIATURE HIGH INTENSITY LED ILLUMINATION SOURCE.//U.S. Patent No. 6,748,609: CLOSURE DEVICE FOR A PROTECTIVE SUIT.//U.S. Patent No. 6,754,390: FUSING OUTPUTS FROM MULTIPLE DETECTION/CLASSIFICATION SCHEMES.//

ADDRESSES: Requests for copies of the patents cited should be directed to Naval Surface Warfare Center Panama City, 110 Vernon Ave, Panama City, FL 32407-7001.

FOR FURTHER INFORMATION CONTACT: Mr. James Shepherd, Patent Counsel, Naval Surface Warfare Center Panama City, 110 Vernon Ave, Panama City, FL 32407-7001, telephone (850) 234-4646.

(Authority: 35 U.S.C. 207, 37 CFR Part 404)

Dated: September 15, 2004.
J.H. Wagshul,
Commander, Judge Advocate General's Corps, U.S. Navy, Federal Register Liaison Officer.

[FR Doc. 04-21267 Filed 9-21-04; 8:45 am]

BILLING CODE 3810-FF-P